DEPARTMENT OF TRANSPORTATION

Surface Transportation Board

[STB Finance Docket No. 34303]

Dallas, Garland & Northeastern Railroad—Acquisition and Operation Exemption—The Kansas City Southern Railway Company

Dallas, Garland & Northeastern Railroad (DGNO), a Class III rail carrier, has filed a verified notice of exemption under 49 CFR 1150.41 to acquire and operate, pursuant to an agreement entered into between The Kansas City Southern Railway Company (KCS) and DGNO, 2.6 miles of rail line of KCS in West Dallas, TX, between milepost 3.0 and milepost 5.6, known as Hale Cement Spur near Dallas.

Because DGNO's projected annual revenues will exceed $5 million, DGNO certified to the Board on December 19, 2002, that it sent the required notice of the transaction to the national offices of all labor unions representing employees on the line and posted a copy of the notice at the workplace of the employees on the affected lines on December 19, 2002. See 49 CFR 1150.42(e).

The transaction was scheduled to be consummated on March 28, 2003, the effective date of the exemption (which is more than 60 days after DGNO's certification to the Board that it had complied with the Board's rule at 49 CFR 1150.42(e)).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34303, must be filed with the Surface Transportation Board, 1925 K Street, NW., Washington, DC 20423-0001. In addition, a copy of each pleading must be served on Gary A. Laakso, Vice President Regulatory Counsel, 5300 Broken Sound Boulevard, NW., Boca Raton, FL 33487 and Louis E. Gitomer, Ball Janik LLP, 1455 F Street, NW., Suite 225, Washington, DC 20005.

Board decisions and notices are available on our Web site at http://www.stb.dot.gov.

Decided: April 11, 2003.
By the Board, David M. Konschnik, Director, Office of Proceedings.
Vernon A. Williams,
Secretary.

[FR Doc. 03-9463 Filed 4-17-03; 8:45 am]

BILLING CODE 4915-00-P